DEPARTMENT OF HEALTH AND HUMAN SERVICES

Administration on Aging

[Program Announcement No. AoA-01-02]

Fiscal Year 2001 Program Announcement; Availability of Funds and Notice Regarding Applications

AGENCY: Administration on Aging, HHS.

ACTION: Announcement of availability of funds and request for applications for the Alzheimer's Disease Demonstration Grants to States Program (ADDGS), to (1) develop models of assistance for persons with Alzheimer's disease and their families, and (2) improve the responsiveness of existing home and community based care systems for persons with Alzheimer's disease and related disorders and their families.

Applicant Eligibility and Requirements: Eligibility for grant awards is limited to state agencies. Only one application per state will be accepted. Applicants must provide a letter from their state's Governor designating the applicant agency as the sole applicant for the state. The sixteen states currently funded under the ADDGS program are not eligible to apply.

Grantees are required to provide a 25% non-federal match during the first year, 35% during the second year, and 45% during the third year of the grant.

SUMMARY: The Administration on Aging announces that under this program announcement it will hold a competition for grant awards for seven (7) to ten (10) projects at a federal share of approximately $250,000-$350,000 per year for a project period of three years. The purpose of these projects is to develop services and assistance, and improve the home and community based care system to better respond to the needs of persons with Alzheimer's disease, their families, and caregivers.

The deadline date for the submission of applications is 60 days after publication of this notice.

Application kits are available by writing to the Department of Health and Human Services, Administration on Aging, Office of Program Operation and Development, 330 Independence Ave., SW., Wilbur J. Cohen Building, Room 4733, Washington, DC 20201, or by calling 202/401-4547 or 202/619-1352.

Dated: March 8, 2001.
Norman L. Thompson,
Acting Principal Deputy Assistant Secretary for Aging.

[FR Doc. 01-6294 Filed 3-13-01; 8:45 am]

BILLING CODE 4154-01-U